NATIONAL FOUNDATION ON THE ARTS AND THE HUMANITIES

Institute of Museum and Library Services

Submission for OMB Review, Comment Request, Proposed Collection: Collections Assessment for Preservation Program

AGENCY: Institute of Museum and Library Services, National Foundation on the Arts and the Humanities.

ACTION: Submission for OMB review, comments request, collection of information.

SUMMARY: The Institute of Museum and Library Services (IMLS) announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This notice proposes the clearance of the Collections Assessment for Preservation Program Notice of Funding Opportunity. A copy of the proposed information collection request can be obtained by contacting the individual listed below in the FOR FURTHER INFORMATION CONTACT section of this notice.

DATES: Written comments must be submitted to the office listed in the ADDRESSES section below on or before March 8, 2024.

ADDRESSES: Written comments and recommendations for proposed information collection requests should be sent within 30 days of publication of this notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

FOR FURTHER INFORMATION CONTACT: Sarah Glass, Senior Program Officer, Office of Museum Services, Institute of Museum and Library Services, 955 L'Enfant Plaza North SW, Suite 4000, Washington DC 20024-2135. Ms. Glass can be reached by telephone at 202-653-4668 or by email at sglass@imls.gov. Persons who are deaf or hard of hearing (TTY users) can contact IMLS at 202-207-7858 via 711 for TTY-Based Telecommunications Relay Service.

SUPPLEMENTARY INFORMATION: IMLS is the primary source of federal support for the nation's libraries and museums. We advance, support, and empower America's museums, libraries, and related organizations through grant making, research, and policy development. To learn more, visit www.imls.gov.

Current Actions: The purpose of this collection is to administer the Collections Assessment for Preservation Program, a special initiative of the National Leadership Grants for Museums program. The goal of the special initiative is to provide an affordable and accessible program for small to midsize museums to help them plan for the conservation of the collections entrusted to them by the public for preservation. Through this program, IMLS aims to (1) increase the capacity of museums to understand the conservation needs of their collections and the building environments in which they are housed; (2) strengthen the knowledge of museum personnel about the care and conservation of collections; and (3) position museums to plan strategically for the long-term care and conservation of their collections. This action is to seek clearance of the Collections Assessment for Preservation Program Notice of Funding Opportunity.

The 60-day notice was published in the Federal Register on December 4, 2023 (88 FR 84177). The agency received no comments under this notice.

Agency: Institute of Museum and Library Services.

Title: Collections Assessment for Preservation Program.

OMB Control Number: 3137-0103.

Affected Public: Museums, colleges and universities, and organizations or associations that engage in activities designed to advance the well-being of museums and the museum profession.

Total Number of Respondents: 9.

Frequency of Response: Once per request.

Average Hours per Response: 40 hours.

Total Estimated Number of Annual Burden Hours: 360.

Total Annualized capital/startup costs: n/a.

Total Annual Cost Burden: $1,298.

Total Annual Federal Costs: $2,660.

Dated: February 1, 2024.
Suzanne Mbollo,
Grants Management Specialist, Institute of Museum and Library Services.

[FR Doc. 2024-02424 Filed 2-6-24; 8:45 am]

BILLING CODE 7036-01-P